DEPARTMENT OF LABOR

Occupational Safety and Health Administration

[Docket No. ICR-1218-0206(2001)]

Standard on Grain Handling Facilities; Extension of the Office of Management and Budget's (OMB) Approval of an Information-Collection (Paperwork) Requirements

AGENCY: Occupational Safety and Health Administration (OSHA), Labor.

ACTION: Notice of an opportunity for public comment.

SUMMARY: OSHA solicits comments concerning the proposed extension of the information-collection requirements contained in the Standard on Grain Handling Facilities, 29 CFR 1910.272.

DATES: Submit written comments on or before July 30, 2001.

ADDRESSES: Submit written comments to the Docket Office, Docket No. ICR-1218-0206(2001), OSHA, U.S. Department of Labor, Room N-2625, 200 Constitution Avenue, NW., Washington, DC 20210; telephone (202) 693-2350. Commenters may transmit written comments of 10 pages or less in length by facsimile to (202) 693-1648.

FOR FURTHER INFORMATION CONTACT: Theda Kenney, Directorate of Safety Standards Programs, OSHA, U.S. Department of Labor, Room N-3609, 200 Constitution Avenue, NW., Washington, DC 20210; telephone (202) 693-2222. A copy of the Agency's Information-Collection Request (ICR) supporting the need for the information collections contained in the Standard on Grain Handling Facilities is available for inspection and copying in the Docket Office, or by requesting a copy from Theda Kenney at (202) 693-2222 or Todd Owen at (202) 693-2444. For electronic copies of the ICR contact OSHA on the Internet at http://www.osha.gov/comp-links.html and select “Information Collection Requests.”

SUPPLEMENTARY INFORMATION:

1. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are understandable, and OSHA's estimate of the information-collection burden is correct. The Occupational Safety and Health Act of the 1970 (the Act) authorizes information collection by employers as necessary or appropriate for enforcement of the Act or for developing information regarding the causes and prevention of occupational injuries, illnesses, and accidents (29 U.S.C. 657).

The following table describes the paperwork requirements specified for employers by the Standard on Grain Handling Facilities (§ 1910.272; the “Standard”), as well as the safety and health purpose served by each of these requirements.

Paragraph | Paperwork requirement | Safety and health purpose
(d) | Develop and implement an emergency-action plan | Provides employees with information regarding the appropriate actions to take in an emergency.
(e)(1) | Provide employee training at least annually and after a job reassignment that exposes an employee to new hazards | Ensures that employees can identify and control the hazards associated with their job tasks and work areas, especially ignition sources for fire or explosions involving accumulations of fugitive grain dust.
(f)(1), (f)(2) | Issue a written permit for hot work certifying that the employer implemented the requirements of § 1910.252(a) prior to beginning hot-work operations; maintain the certificate until completing the hot-work operation | To alert the employer to take appropriate safety precautions before activating an ignition source, thereby preventing ignition of accumulated fugitive grain dust.
(g)(1)(i) | Issue a permit before an employee enters a bin, silo, or tank unless the employer or employer's representative is present during the entire entry operation. The permit must certify that the employer implemented the precautions specified in § 1910.272(g) prior to beginning the entry operation. Maintain the permit until completing the entry operation | To alert the employer and other employees of a planned entry into a grain-storage structure so they can take the actions necessary to control hazards in the structure; these actions include deactivating equipment that could impact, crush, electrocute, or suffocate (e.g., through grain release) the employee who is entering the structure.
(g)(1)(ii) | Deenergize and then disconnect, lockout and tag, block off, or use another equally effective means or method to prevent the operation of mechanical, electrical, hydraulic, or pneumatic equipment that present a danger to employees inside a grain-storage structure | Tags inform the employer and other employees that they must not reactivate the tagged equipment, thereby preventing death or serious injury that may occur to the employee who is working inside the grain-storage structure.
(i)(1), (i)(2) | Inform contractors performing work at a grain-handling facility of known potential fire and explosion hazards related to the contractor's work and work area, and the applicable safety rules of the facility and provisions of the emergency-action plan | Allows contractors and their employees to identify and control fire and explosion hazards associated with their job tasks and work areas, and provides them with information regarding the appropriate actions to take in an emergency.
(j)(1) | Develop and implement a written housekeeping program that establishes the frequency and method(s) determined to best reduce accumulations of fugitive grain dust on ledges, floors, equipment, and other surfaces exposed to the dust | Prevents the fire and explosion hazards that result from excessive accumulations of fugitive grain dust.
(m)(1) | Implement preventive maintenance procedures addressing: Regularly scheduled inspections of mechanical and safety-control equipment associated with dryers, grain-stream processing equipment, dust-collection equipment (including filter collectors), and bucket elevators; and lubrication and necessary and appropriate maintenance | Controls the release of sparks and other ignition products from equipment used to process grain, thereby preventing ignition of accumulated fugitive grain dust.
(m)(3) | Provide and maintain written certification of each inspection, including the date of the inspection, the individual who conducted the inspection, and the identifier for each piece of equipment inspected | Identifies malfunctioning equipment that requires repair and maintenance; it also provides both employers and employees with assurance that equipment used in grain-handling operations is in safe working order and will not serve as an ignition source.
(m)(4) | Implement lockout-tagout procedures to prevent inadvertent application of energy or motion to equipment that an employee is repairing, servicing, or adjusting | Using standardized and safe procedures ensures proper deactivation and reactivation of grain-handling equipment while an employee is working on it, thereby preventing death or serious injury to the employee.

II. Special Issues for Comment

OSHA has a particular interest in comments on the following issues:

• Whether the proposed information-collection requirements are necessary for the proper performance of the Agency's functions, including whether the information is useful;

• The accuracy of OSHA's estimate of the burden (time and cost) of the information-collection requirements, including the validity of the methodology and assumptions used;

• The quality, utility, and clarity of the information collected; and

• Ways to minimize the burden on employers who must comply; for example, by using automated or other technological information-collection and -transmission techniques.

III. Proposed Actions

OSHA is requesting to extend OMB approval of the collection-of-information requirements specified by the Standard. The Agency will summarize the comments submitted in response to this notice, and will include this summary in its request to OMB to extend approval of these information-collection requirements.

Type of Review: Extension of currently approved information-collection requirements.

Title: Grain Handling Facilities.

OMB Number: 1218-0206.

Affected Public: Business or other for-profit; not-for-profit institutions; Federal government; State, local or tribal governments.

Number of Respondents: 23,770.

Frequency of Response: Monthly; annually.

Average Time per Response: Varies from 2 minutes (.03 hours) to affix a tag to deenergized equipment to 1 hour to revise and emergency-action plan, housekeeping program, or lockout-tagout procedures.

Estimated Total Burden Hours: 136,781.

Estimated Cost (Operation and Maintenance): None.

IV. Authority and Signature

R. Davis Layne, Acting Assistant Secretary of Labor for Occupational Safety and Health, directed the preparation of this notice. The authority for this notice is the Paperwork Reduction Act of 1995 (44 U.S.C. 3506) and Secretary of Labor's Order No.3-2000 (65 FR 50017).

Signed at Washington, DC, on May 25, 2001.
R. Davis Layne,
Acting Assistant Secretary of Labor.

[FR Doc. 01-13688 Filed 5-30-01; 8:45 am]

BILLING CODE 4510-26-M